DEPARTMENT OF HEALTH AND HUMAN SERVICES

Office of Inspector General

Program Exclusions: February 2006

AGENCY: Office of Inspector General, HHS.

ACTION: Notice of program exclusions.

During the month of February 2006, the HHS Office of Inspector General imposed exclusions in the cases set forth below. When an exclusions is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject name | Address | Effective date
PROGRAM-RELATED CONVICTIONS
ALAS, MARIA | LOS ANGELES, CA | 3/20/2006
ANDREWS, PATRICIA | SAN BERNARDINO, CA | 3/20/2006
AWAN, ABDUL | BROOKLYN, NY | 3/20/2006
BELLINO, THOMAS | HOBART, IN | 3/20/2006
BETHEAEPSTEIN, JAMES | MT. VERNON, NY | 3/20/2006
BROWN, REGINA | ALEXANDRIA, LA | 3/20/2006
BRYSON, RICK | ACCOKEEK, MD | 3/20/2006
CADENAS, EDGARD | HIALEAH, FL | 3/20/2006
CASTENEDA, PATRICIA | LOS ANGELES, CA | 3/20/2006
CHARPENTIER, JOCELYNE | EAST MEADOW, NY | 3/20/2006
CHULAK, GENADY | BRIDGETON, NJ | 3/20/2006
CROSSROADS MENTAL HEALTH, LLC | PLAQUEMINE, LA | 3/20/2006
DAVIS, THOMAS | TERRE HAUTE, IN | 3/20/2006
DAY, SHERRIE | PORTLAND, OR | 3/20/2006
DUBIN, JEFFREY | BENSALEM, PA | 3/20/2006
FALL RIVER WALK-IN EMERGENCY MEDICAL OFFICE, PC | BARRINGTON, RI | 3/20/2006
FERRER, CHRISTINA | COLUMBIA, SC | 3/20/2006
FRESH START TO RECOVERY | MT. VERNON, NY | 3/20/2006
GALLEGOS, GERALD | ALAMOSA, CO | 3/20/2006
GELLER, HOWARD | NEW YORK, NY | 3/20/2006
GILLMORE, DIANE | ROCK HILL, SC | 3/20/2006
GREGG, MEGHANN | ROCK HILL, SC | 3/20/2006
GUPTON, HENRY | OAK RIDGE, TN | 3/20/2006
HIDALGO, JOSE | MISSION HILLS, CA | 3/20/2006
HORWITZ, KENNETH | RANDOLPH, NJ | 3/20/2006
HUMAN SERVICE CENTERS, INC | ELMHURST, NY | 3/20/2006
HUNTER, MICHELLE | DANBURY, CT | 3/20/2006
KAZANCHIAN, OVSEP | SOUTH EL MONTE, CA | 3/20/2006
KEE, LINDA | FRESNO, CA | 3/20/2006
LAWS, TAWANDA | COLUMBUS, OH | 3/20/2006
LEVY, LORI | WARREN, OH | 3/20/2006
MARCKS, MAJOR | AURORA, CO | 3/20/2006
McCAUGHEY, DIANA | TOWANDA, PA | 3/20/2006
McKASY, ANTHONY | BARAGA, MI | 3/20/2006
MITCHELL, LARRY | MULBERRY, FL | 3/20/2006
MOORE, TRACIE | ANDREWS, SC | 3/20/2006
MOUTON, PATRICK | KATY, TX | 3/20/2006
MURADYAN, VAHE | FLORENCE, CO | 3/20/2006
NEWCOMB, JENNIFER | ORLANDO, FL | 3/20/2006
OKON, EFIONG | TIGARD, OR | 2/28/2005
OLIVEIRA, MARIO | NEWARK, NJ | 3/20/2006
PANITZ, DANIEL | ELMHURST, NY | 3/20/2006
PARI, MICHELLE | NEW PORT RICHEY, FL | 3/20/2006
PETERSON, JOYCELYN | HIGHLAND, CA | 3/20/2006
PETERSON, RALPH | HIGHLAND, CA | 3/20/2006
POINDEXTER, WILMER | SHREVEPORT, LA | 3/20/2006
POLISHCHUK, VLADIMIR | TARZANA, CA | 3/20/2006
REED, AMY | COLLINSVILLE, TX | 3/20/2006
RIVERS, SHEILA | SAULSBURY, TN | 3/20/2006
SANCHEZ, DOUGLAS | PHOENIX, AZ | 3/20/2006
SANCHEZ, MELISSA | PHOENIX, AZ | 3/20/2006
SANTIAGO-BERRIOS, ANGEL | BAYAMON, PR | 3/20/2006
SIMMONS, AMY | ANDERSON, SC | 3/20/2006
STOVEKEN, ANDREW | PLAINSBORO, NJ | 3/20/2006
SU, MAGGIE | ARCADIA, CA | 3/20/2006
THIBODEAUX, JO | PLAQUEMINE, LA | 3/20/2006
UKO, EBONG | TAFT, CA | 3/20/2006
WEST COAST MEDICAL SUPPLY, LLC | PORTLAND, OR | 2/28/2005
WORSLEY, CYNTHIA | WASHINGTON, DC | 3/20/2006
FELONY CONVICTION FOR HEALTH CARE FRAUD
COHEN, BARRY | POMPANO BEACH, FL | 3/20/2006
FARIES, MARSHA | BLANCHESTER, OH | 3/20/2006
GOLDBERG, BRUCE | HUNTINGTON VALLEY, PA | 3/20/2006
HARTLESS, BRANDI | PORTLAND, OR | 3/20/2006
HAYNES, CHERISE | AKRON, OH | 3/20/2006
HEFFINGTON, MARTHA | GATESVILLE, TX | 3/20/2006
JONES, HOWARD | KINGMAN, AZ | 3/20/2006
LANG, BRIAN | CHESTER, PA | 3/20/2006
MALLELA, ROBERT | OTSIDVILLE, NY | 3/20/2006
McCOY, RAYMOND | GLENDALE, AR | 3/20/2006
MITCHELL, JOEL | LINDSEY, OK | 3/20/2006
OERTWICH, RONDA | PENDLETON, OR | 3/20/2006
PATTERSON, MISTY | FORT JONES, CA | 3/20/2006
POTTLE, KIMBERLY | WATERVILLE, ME | 3/20/2006
RING, CATHERINE | MIAMISBURG, OH | 3/20/2006
SIMPSON, BONNIE | TULSA, OK | 3/20/2006
SMITH, ALPHONSO | WOODBURY, NJ | 3/20/2006
STROHBACH, ROBERT | FONTANA, CA | 3/20/2006
TAYLOR, DANIELLE | CONWAY, SC | 3/20/2006
WORENT, NAMI | JENKS, OK | 3/20/2006
FELONY CONTROL SUBSTANCE CONVICTION
BOWDEN, CYNTHIA | TYLER, TX | 3/20/2006
COUPER, HEATHER | THOMPSONS STATION, TN | 3/20/2006
COVINGTON, MELISSA | FORESTBURG, TX | 3/20/2006
DAVIDSON, FRANCINE | PUEBLO WEST, CO | 3/20/2006
JONES, STEPHEN | BOUNTIFUL, UT | 3/20/2006
KINDIG, CHARLES | FT. WORTH, TX | 3/20/2006
OETTINGER, MURR | GOOCHLAND, VA | 3/20/2006
ROTTSCHAEFER, BERNARD | OAKMONT, PA | 3/20/2006
SIMMS, MARCIA | TAFT, OK | 3/20/2006
STRECK, DENISE | GREENVILLE, IL | 3/20/2006
WHITAKER, GEORGIA | HEMET, CA | 3/20/2006
WING, ROGER | CORONADO, CA | 3/20/2006
WOODLOCK, CARRIE | BURNET, TX | 3/20/2006
PATIENT ABUSE/NEGLECT CONVICTIONS
ACOBA, VIRGINIA | LAS VEGAS, NV | 3/20/2006
COLLIER, STEPHEN | ENDWELL, NY | 3/20/2006
FURR, STANLEY | TUPELO, MS | 3/20/2006
HAWKINS, JOSHUA | NORTH LITTLE ROCK, AR | 3/20/2006
JACKSON, BARBARA | VANCOUVER, WA | 3/20/2006
LOCKE, HOPE | ELIOT, ME | 3/20/2006
MULLINGS, CLAUDETTE | BRONX, NY | 3/20/2006
POUND, SANDRICA | HELENA, GA | 3/20/2006
TYCE, CHARLES | JACKSON, MS | 3/20/2006
VENSON, JOHN | LOUISVILLE, KY | 3/20/2006
CONVICTION FOR HEALTH CARE FRAUD
CZYZEWSKI, NICK | CARMICHAELS, PA | 3/20/2006
LICENSE REVOCATION/SUSPENSION/SURRENDERED
ABNEY, LAKESHA | WOONSOCKET, RI | 3/20/2006
ADENIYI, ANTHONY | MANTECA, CA | 3/20/2006
AGUINAGA, VICTOR | CHICAGO, IL | 3/20/2006
AHRENBERG, CATHY | PHOENIX, AZ | 3/20/2006
ANDERSON, GAIL | HATTIESBURG, MS | 3/20/2006
ANDERSON, SHARON | SARASOTA, FL | 3/20/2006
ARNOLD, RICHARD | CYNTHIANA, KY | 3/20/2006
BAILEY, LAROY | LOS ANGELES, CA | 3/20/2006
BAILEY, STEVEN | BELLPORT, NY | 3/20/2006
BAIRD, DANDRINA | TALLADEGA, AL | 3/20/2006
BASHARA, KARLA | OMAHA, NE | 3/20/2006
BELHON, PATRICK | SUQUAMISH, WA | 3/20/2006
BELL, MARY | AVON, OH | 3/20/2006
BENDERT, MICHAEL | ENDICOTT, NY | 3/20/2006
BILLINGS, KIMBERLY | GLENDALE, AZ | 3/20/2006
BOHANNON, STEVEN | ESCONDIDO, CA | 3/20/2006
BORLAND, LUCILE | COLUMBUS, MS | 3/20/2006
BOW, ROBERT | ORANGEVALE, CA | 3/20/2006
BOWEN, BETTY | ST. PETERSBURG, FL | 3/20/2006
BOWMAN, KIM | OCALA, FL | 3/20/2006
BOYNTON, STACEY | MERIDEN, CT | 3/20/2006
BRACKEN, KATHY | AURORA, CO | 3/20/2006
BRADLEY, JERI | TUCSON, AZ | 3/20/2006
BRADY, MARY | TUCSON, AZ | 3/20/2006
BRANSFORD, BONNIE | COLORADO SPRINGS, CO | 3/20/2006
BRAWN, MICHAEL | CORONA, CA | 3/20/2006
BRAXTON, ANGELA | ALTHA, FL | 3/20/2006
BRISTOW, CINDY | POMPANO BEACH, FL | 3/20/2006
BROWN, FLOYD | DECHERD, TN | 3/20/2006
BROWN, LOIS | FLAGSTAFF, AZ | 3/20/2006
BROWN, RONALD | SPRING, TX | 3/20/2006
BURNETT, ROBERT | SOMERVILLE, TN | 3/20/2006
CARRERO, GLORIA | DEERFIELD BEACH, FL | 3/20/2006
CASTRO, JULIA | PROVIDENCE, RI | 3/20/2006
CHRANE, BOBBIE | JOELTON, TN | 3/20/2006
CLAY, KENDRA | GLENDALE, CA | 3/20/2006
COLLINS, MELVALISA | PACOIMA, CA | 3/20/2006
COLLINS, TUESDIE | NAPA, CA | 3/20/2006
CONLEY, CAROL | WINTER HAVEN, FL | 3/20/2006
COPELAND, CRAIG | CANTON, MI | 3/20/2006
COUCH, MICHAEL | COLUMBIA, TN | 3/20/2006
COWAN, LEE | DEER LODGE, MT | 3/20/2006
CRAWFORD, BARBARA | SPRING HILL, FL | 3/20/2006
CRITCHFIELD, LYNN | KINGSTON, TN | 3/20/2006
CROOM, QUATONIA | PORT ST. JOE, FL | 3/20/2006
CURTIN, ELIZABETH | WATERBURY, CT | 3/20/2006
CURTIS, SANDRA | RAINBOW CITY, AL | 3/20/2006
DANEK, JEANNE | REDWOOD CITY, CA | 3/20/2006
DAVIS, RANDALL | RIVERVIEW, FL | 3/20/2006
DECHENE, ARNOLD | CASTAIC, CA | 3/20/2006
DILLON, RUTH | ARVADA, CO | 3/20/2006
DODD, DEBORAH | CHESAPEAKE, VA | 3/20/2006
DOE, BENETTA | PROVIDENCE, RI | 3/20/2006
DOTZMAN, WILLIAM | PALM HARBOR, FL | 3/20/2006
EGGENBERGER, LISA | BARTLETT, TN | 3/20/2006
ELLIS, MARK | SPRING HILL, FL | 3/20/2006
ENGLE, DAVID | COLORADO SPRINGS, CO | 3/20/2006
ESCAMILLA, EDDIE | IMPERIAL BEACH, CA | 3/20/2006
ESHELMAN, KIM | TAMPA, FL | 3/20/2006
ESTRADA, ERMA | VISALIA, CA | 3/20/2006
FIELD, STEVEN | TAMPA, FL | 3/20/2006
FISHER, CHARLOTTE | NASHVILLE, TN | 3/20/2006
FORD, AMANDA | ROSE HILL, VA | 3/20/2006
FORD, LAURA | LENA, MS | 3/20/2006
FOWLER, NANCY | CUMBERLAND, RI | 3/20/2006
FREE, DARLENE | LANSING, IL | 3/20/2006
GIBBS, SHANIEKA | JACKSONVILLE, FL | 3/20/2006
GOLDEN, SARA | TUCSON, AZ | 3/20/2006
GONZALEZ, MARIA | LARGO, FL | 3/20/2006
GRAHAM, LILLIAN | DERBY, CT | 3/20/2006
GRIFFIN, PHYLLIS | RICHMOND, KY | 3/20/2006
GUTIERREZ, MARIA | BALDWIN PARK, CA | 3/20/2006
HANLEY, REGINALD | GLENDALE, AZ | 3/20/2006
HARMON, SHIRLEY | LAGRANGE, KY | 3/20/2006
HARVEY, ANNETTE | RAIFORD, FL | 3/20/2006
HATCHER, DORI | GEFF, IL | 3/20/2006
HATMAN, HOLLY | PRESCOTT VALLEY, AZ | 3/20/2006
HELFAND, JEFFREY | NORWALK, CT | 3/20/2006
HELLEIS, JOSEPH | PERRIS, CA | 3/20/2006
HELTON, DORIS | GRAY, KY | 3/20/2006
HENRY, SUSAN | CROSSVILLE, TN | 3/20/2006
HERRERA, PASCUAL | LEESBURG, AL | 3/20/2006
HICKS, TIFFANY | BIRMINGHAM, AL | 3/20/2006
HIGHT, VICTOR | GARDEN GROVE, CA | 3/20/2006
HINKLE, KELLY | CHICKAMAUGA, GA | 3/20/2006
HOAGLAND, ARDICE | THORNTON, CO | 3/20/2006
HODGES, DAVID | NORTH HIGHLANDS, CA | 3/20/2006
HORTON, NATALIE | ATHENS, TN | 3/20/2006
HOWARD, LARRY | OOLTEWAH, TN | 3/20/2006
HOWELL, AUDREY | HIGGANUM, CT | 3/20/2006
JARBOE, ELIZABETH | LOUISVILLE, KY | 3/20/2006
JOHNSON, CARLA | TUCSON, AZ | 3/20/2006
JOHNSON, MAVERLYN | MIRAMAR, FL | 3/20/2006
JOHNSON, MELISSA | HIALEAH, FL | 3/20/2006
JONES, LOUISE | KELSEYVILLE, CA | 3/20/2006
KATZ, STEVEN | SAN FRANCISCO, CA | 3/20/2006
KENNEY, PATRICIA | MOUNT DORA, FL | 3/20/2006
KILLINGSWORTH, CHRISTINE | LOMITA, CA | 3/20/2006
KISATSKY, LAURA | CANAAN, CT | 3/20/2006
KROEGER, DEBRA | PRESCOTT, AZ | 3/20/2006
LANDA, ELIZABETH | BRANDON, FL | 3/20/2006
LENZ, VANESSA | WRAY, CO | 3/20/2006
LINTON, JAMES | LONG BEACH, CA | 3/20/2006
MALIK, MUMTAZ | ELIZABETHTOWN, KY | 3/20/2006
MAPES, BRANDON | TAMPA, FL | 3/20/2006
MAPLE, SHARRIE | COLORADO SPRINGS, CO | 3/20/2006
MARCANO, JAMI | OMAHA, NE | 3/20/2006
MATHESON, LINDA | PLANTATION, FL | 3/20/2006
McCLENDON, SHANEQUA | ST. PETERSBURG, FL | 3/20/2006
MELNYCZOK, SUSANNAH | MELBOURNE, FL | 3/20/2006
MENDENHALL, CORRINE | GLENDALE, AZ | 3/20/2006
MOOREHEAD, TRACY | CHICAGO, IL | 3/20/2006
MORRISON, JAMES | CHANDLER, AZ | 3/20/2006
MURTUZA, SARWAR | ELKIN, NC | 3/20/2006
MUSGRAVE, DIANNA | FAIRFIELD, IL | 3/20/2006
NAVARRO, CLAUDIA | WEST COVINA, CA | 3/20/2006
NIPPER, PATRICIA | LOUISVILLE, KY | 3/20/2006
OLIVERA, KAREN | SAN DIEGO, CA | 3/20/2006
PATTERSON, WESLEY | GREENEVILLE, TN | 3/20/2006
PEREZ, ANTOLIN | NORTH MIAMI, FL | 3/20/2006
PERFECTO, JOSEFINA | ROSEVILLE, CA | 3/20/2006
PIERRE-LOUIS, PHILIP | RIVERSIDE, CA | 3/20/2006
POLLOCK, LISA | BETHLEHEM, GA | 3/20/2006
PRITCHARD, TAMMY | LEBANON, TN | 3/20/2006
PULAI, ANYA | WESTMINISTER, CO | 3/20/2006
RADFORD, JODIE | BAILEYVILLE, ME | 3/20/2006
RAIFORD, PHILLIP | PINSON, TN | 3/20/2006
RAMSEY, GWENDOLYN | BEAUMONT, TX | 3/20/2006
RASNIC, MARILYN | HUTCHINSON, KS | 3/20/2006
RAY, FABIAN | JACKSBORO, TN | 3/20/2006
RAYMOND, MARIE | PROVIDENCE, RI | 3/20/2006
REDDICK, ROSEMARY | SAN DIEGO, CA | 3/20/2006
REED, CINDY | HICKORY, NC | 3/20/2006
REZAEI, PANTEA | MISSION VIEJO, CA | 3/20/2006
RIFFLE, NICQUELINE | DAYTON, OH | 3/20/2006
ROBILLARD, DANIELLE | CRANSTON, RI | 3/20/2006
ROSEBERRY, MARK | CORDOVA, TN | 3/20/2006
SALVADOR, SALUSTINA | OXNARD, CA | 3/20/2006
SANDERS, CLARENCE | GALLATIN, TN | 3/20/2006
SANDERS, JOHN | CHARLOTTESVILLE, VA | 3/20/2006
SCARBOROUGH, MARCY | MEMPHIS, TN | 3/20/2006
SCOTT, PATRICIA | MENDENHALL, MS | 3/20/2006
SEBEL, MICHAEL | RESEDA, CA | 3/20/2006
SMITH, KAREN | SPRINGFIELD, TN | 3/20/2006
SMITH, PATRICIA | WARSAW, IN | 3/20/2006
SMITH, PATRICIA | DEWEY, AZ | 3/20/2006
SNOWDEN, GENE | CHICAGO, IL | 3/20/2006
SOKOLL, GEOFFREY | ROGERSVILLE, AL | 3/20/2006
SPENCER, CONSTANCE | INDIANAPOLIS, IN | 3/20/2006
STEINER, ALICIA | MERIDEN, CT | 3/20/2006
SWEET, DEANA | BEAVERTON, OR | 3/20/2006
THIEL, ALISON | CHOWCHILLA, CA | 3/20/2006
TOLBERT, MARILYN | GADSDEN, AL | 3/20/2006
TSYPKIN, EVELIN | SAN FRANCISCO, CA | 3/20/2006
VICKERS, LEE | LAKELAND, FL | 3/20/2006
VINCELETTE, HOLLY | DEEP RIVER, CT | 3/20/2006
VOWELL, ANGELA | ORANGEVALE, CA | 3/20/2006
WATKINS, KATHERINE | BESSEMER, AL | 3/20/2006
WELCH, JOHN | MAGEE, MS | 3/20/2006
WELLS, REBEKAH | BRISTOL, CT | 3/20/2006
WEST, ALISA | LONGWOOD, FL | 3/20/2006
WETHERBEE, EDWARD | HOLLYWOOD, FL | 3/20/2006
WILKERSON, LARAE | UNION, MS | 3/20/2006
WILLIAMS, VERNA | MAGEE, MS | 3/20/2006
WOHRLEY, ELIZABETH | NASHVILLE, TN | 3/20/2006
YEAGER, RHONDA | WAYNESBORO, MS | 3/20/2006
YEATES, SHERAN | JACKSON, TN | 3/20/2006
YOUNG, ALLEN | UNION, KY | 3/20/2006
FEDERAL/STATE EXCLUSION/SUSPENSION
FUZAILOV, SHOLOM | FLUSHING, NY | 3/20/2006
FRAUD/KICKBACKS/PROHIBITED ACTS/SETTLEMENT AGREEMENTS
BUTLER, DIANE | BERKLEY, MA | 1/5/2006
GAMBLE, DENNY | LONGVIEW, TX | 12/16/2003
OWNED/CONTROLLED BY CONVICTED ENTITIES
BOMAS HOUSE OF HOPE, INC | HOUSTON, TX | 3/20/2006
DIRICO | BERKLEY, MA | 1/5/2006
MOUNTAIN VISTA CHIROPRACTIC CENTER, INC | LONGMONT, CO | 3/20/2006
ROLANDO ROZAS, MD, PA | MIAMI, FL | 3/20/2006
RURAL HEALTH NETWORKS OF FLORIDA | CITRA, FL | 3/20/2006
TWILIGHT YEARS ADULT CARE, INC | MINNEAPOLIS, KS | 3/20/2006
UNIVERSAL MEDICAL ASSOCIATION OF USA, INC | ROSEMEAD, CA | 3/20/2006
DEFAULT ON HEAL LOAN
COLE, MARIA | WEST PALM BEACH, FL | 3/20/2006
DENSMORE, ROBERT | TAMPA, FL | 3/20/2006
ETIENNE, FERNANDE | ROSELLE, NJ | 3/20/2006
FENTON, MARK | VAN NUYS, CA | 3/20/2006
FERNANDEZ, OCTAVIO | MIAMI, FL | 3/20/2006
HUDSON, DONALD | LANSING, MI | 3/20/2006
KEOSHIAN, CRAIG | VALENCIA, CA | 3/20/2006
KYCYNKA, DREW | SPRING HILL, FL | 3/20/2006
LARA-FULLER, ADRIENNE | OXNARD, CA | 2/2/2006

Dated: March 8, 2006.
Maureen Byer,
Acting Director, Exclusions Staff, Office of Inspector General.

[FR Doc. E6-3803 Filed 3-15-06; 8:45 am]

BILLING CODE 4152-01-P